DEPARTMENT OF HOMELAND SECURITY

Bureau of Customs and Border Protection

Address Change for Filing Annual Election to Average for Motor Vehicles

AGENCY: Customs and Border Protection, Department of Homeland Security.

ACTION: General notice.

SUMMARY: This document announces an address change for the Regulatory Audit Division, Office of Strategic Trade, Customs and Border protection for filing annual election to average for motor vehicles.

The new address for the Regulatory Audit Division, Office Strategic Trade, Customs and Border Protection is as follows: Regulatory Audit Division, Office of Strategic Trade, Customs and Border Protection, 1300 Pennsylvania Avenue, NW., c/o 1400 L Street, NW., Washington, DC 20229. Telephone number: 202-863-6010. Fax number: 202-863-6050.

DATES: Effective January 23, 2006.

SUPPLEMENTARY INFORMATION: Under Section 11—Motor Vehicle Averaging, Appendix To Part 181—Rules of Origin Regulations, North American Free Trade Agreement. All filings for the annual election to average for motor vehicles under Section 11 of Appendix to Part 181, Rules of Origin Regulations of North American Free Trade Agreement, must be submitted to the above address.

Dated: January 9, 2006.
Cynthia A. Covell,
Director, Regulatory Audit Division, Office of Strategic Trade, Bureau of Customs and Border Protection.

[FR Doc. 06-556 Filed 1-20-06; 8:45 am]

BILLING CODE 9111-14-M